DEPARTMENT OF DEFENSE

Department of the Navy

Notice of Availability of Government-Owned Inventions; Available for Licensing

AGENCY: Department of the Navy, DoD.

ACTION: Notice.

SUMMARY: The following inventions are assigned to the U.S. Government as represented by the Secretary of the Navy and are available for licensing by the Department of the Navy.

U.S. Patent Application Serial Number 11/417,291 entitled “Method of Making Functionalized Carbon Nanotubes”; U.S. Patent Application Serial Number 11/417,294 entitled “Functionalization of Carbon Nanotubes”; U.S. Patent Application Serial Number 11/894,628 entitled “MEMS Fuse Using a Micro-Detonator”; U.S. Patent Application Serial Number 11/894,629 entitled “MEMS Electronic Initiator for a Micro-Detonator”; U.S. Patent Application Serial Number 11/894,630 entitled “MEMS Mechanical Initiator for a Micro-Detonator”; U.S. Patent Application Serial Number 10/637,090 entitled “Perfluoroalkyl Passivated Aluminum”; U.S. Patent Application Serial Number 12/284,475 entitled “Self-Regulating Power Supply for Micro Electronic Mechanical Systems Thermal Actuators”; U.S. Patent Application Serial Number 12/221,148 entitled “A Novel Lightning Locating System”; U.S. Patent Application Serial Number 11/973,993 entitled “Flow Driven Piezoelectric Energy Havesting Device”; U.S. Patent Application Serial Number 11/650,759 entitled “Programmable Microtransformer”; U.S. Patent Application Serial Number 11/076,456 entitled “Method for Deposition of Steel Protective Coating”; U.S. Patent Application Serial Number 11/387,081 entitled “Automatically Interlocking Pallets, and Shipping and Storage Systems Employing the Same.” U.S. Patent Application Serial Number 11/387,082 entitled “Interlocking Pallets, and Shipping and Storage Systems Employing the Same.” U.S. Patent Application Serial Number 11/387,084 entitled “Shipping and Storage System”; U.S. Patent Application Serial Number 12/669,001 entitled “Hermetically Packaged MEMS G-Switch”;

ADDRESSES: Requests for copies of the Patent Applications cited should be directed to Dr. J. Scott Deiter, Head, Technology Transfer Office, Code CAB, Naval Surface Warfare Center, 3824 Strauss Avenue, Suite 107, 1st Floor, Indian Head, MD 20640-5152.

DATES: Requests should be made prior to January 30, 2009.

FOR FURTHER INFORMATION CONTACT: Dr. J. Scott Deiter, Head, Technology Transfer Office, Code CAB, Naval Surface Warfare Center, 3824 Strauss Avenue, Suite 107, 1st Floor, Indian Head, MD 20640-5152, telephone: 301-744-6111.

Dated: January 7, 2009.
A.M. Vallandingham,
Lieutenant Commander, Judge Advocate General's Corps, U.S. Navy, Federal Register Liaison Officer.

[FR Doc. E9-581 Filed 1-13-09; 8:45 am]

BILLING CODE 3810-FF-P